RAILROAD RETIREMENT BOARD

Agency Forms Submitted for OMB Review, Request for Comments

SUMMARY: In accordance with the Paperwork Reduction Act of 1995 (44 U.S.C. Chapter 35), the Railroad Retirement Board (RRB) is forwarding two (2) Information Collection Requests (ICR) to the Office of Information and Regulatory Affairs (OIRA), Office of Management and Budget (OMB). Our ICR describes the information we seek to collect from the public. Review and approval by OIRA ensures that we impose appropriate paperwork burdens.

The RRB invites comments on the proposed collections of information to determine (1) The practical utility of the collections; (2) the accuracy of the estimated burden of the collections; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

1. Application and Claim for RUIA Benefits Unpaid at Death; OMB 3220-0055

Under Section 2(g) of the Railroad Unemployment Insurance Act (RUIA), benefits under that Act that accrued but were not paid because of the death of an employee shall be paid to the same individual(s) to whom benefits are payable under Section 6(a)(1) of the Railroad Retirement Act. The provisions relating to the payment of such benefits are prescribed in 20 CFR 325.5 and 20 CFR 335.5.

The RRB provides Form UI-63, Application for Benefits Due but Unpaid at Death, for use in applying for the accrued sickness or unemployment benefits unpaid at the death of the employee and for securing the information needed by the RRB to identify the proper payee. Completion time for Form UI-63 is estimated at 7 minutes. Completion is required to obtain a benefit. One response is requested of each respondent.

Previous Requests for Comments: The RRB has already published the initial 60-day notice (73 FR 51535 & 51536 on September 3, 2008) required by 44 U.S.C. 3506(c)(2). That request elicited no comments.

Information Collection Request (ICR)

Title: Application and Claim for RUIA Benefits Due at Death.

Form(s) submitted: UI-63.

OMB Control Number: 3220-0055.

Expiration date of current OMB clearance: 12/31/2008.

Type of request: Revision of a currently approved collection.

Affected Public: Individuals or households.

Estimated annual number of respondents: 200.

Total annual responses: 200.

Total annual reporting hours: 23.

Abstract: The collection obtains the information needed by the Railroad Retirement Board to pay, under section 2(g) of the RUIA, benefits under that Act accrued, but not paid because of the death of the employee.

Changes Proposed: Non-burden impacting editorial changes to Form UI-63 are proposed.

2. Continuing Disability Report; OMB 3220-0187.

Under Section 2 of the Railroad Retirement Act, an annuity is not payable or is reduced for any month in which the annuitant works for a railroad or earns more than prescribed dollar amounts from either non-railroad employment or self-employment. Certain types of work may indicate an annuitant's recovery from disability. The provisions relating to the reduction or non-payment of annuities by reasons of work and an annuitant's recovery from disability for work are prescribed in 20 CFR 220.17-220.20. The RRB conducts continuing disability reviews (CDR) to determine whether annuitants continue to meet the disability requirements of the law. Provisions relating to when and how often the RRB conducts CDRs are prescribed in 20 CFR 220.186.

Form G-254, Continuing Disability Report, is used by the RRB to develop information for CDR determinations, including determinations prompted by a report of work, return to railroad service, allegations of medical improvement, or routine disability call-up. Completion is required to obtain or retain benefits. Completion time is estimated at 5 to 35 minutes.

Form G-254a, Continuing Disability Update Report, is used to help identify disability annuitants whose work activity and/or recent medical history warrants a more extensive review and thus completion of Form G-254. Completion is required to obtain or retain benefits. Completion time is estimated at 5 minutes per response.

Previous Requests for Comments: The RRB has already published the initial 60-day notice (73 FR 53909 & 53910 on September 17, 2008) required by 44 U.S.C. 3506(c)(2). That request elicited no comments.

Information Collection Request (ICR)

Title: Continuing Disability Report.

Form(s) submitted: G-254, G-254a.

OMB Control Number: 3220-0187.

Expiration date of current OMB clearance: 12/31/2008.

Type of request: Revision of a currently approved collection.

Affected Public: Individuals or Households, Business or other for-profit.

Estimated annual number of respondents: 1,500.

Total annual responses: 3,000.

Total annual reporting hours: 748.

Abstract: Under the Railroad Retirement Act, a disability annuity can be reduced or not paid, depending on the amount of earnings and type of work performed. The collection obtains information about a disabled annuitant's employment and earnings.

Changes Proposed: The RRB proposes revision to Form G-254 to modify an existing item in order to clarify information regarding the circumstances surrounding a disabled annuitant's self-employment. The RRB proposes no changes to Form G-254a.

Additional Information or Comments: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois 60611-2092 or Ronald.Hodapp@rrb.gov and to the OMB Desk Officer for the RRB, at the Office of Management and Budget, Room 10230, New Executive Office Building, Washington, DC 20503.

Charles Mierzwa,
Clearance Officer.

[FR Doc. E8-30313 Filed 12-19-08; 8:45 am]

BILLING CODE 7905-01-P